DEPARTMENT OF LABOR

Employment and Training Administration

[TA-W-63,794; TA-W-63,794A]

Norwalk Furniture Corp. Including On-Site Leased Workers From Kelly Services, Norwalk, OH, Including an Employee of Norwalk Furniture Corp, Norwalk, OH Working Out of Pembroke Pines, FL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on September 24, 2008, applicable to workers of Norwalk Furniture Corp., including on-site leased workers from Kelly Services, Norwalk, Ohio. The notice was published in the Federal Register on October 8, 2008 (73 FR 58981).

At the request of the State agency, the Department reviewed the certification for workers of the subject firm. The workers are engaged in the production of upholstered furniture.

New information shows that a worker separation has occurred involving an employee (Mr. Juan De La Torre) of Norwalk Furniture Corp., Norwalk, Ohio, working out of Pembroke Pines, Florida.

Based on this finding, the Department is amending the certification to include an employee of the Norwalk, Ohio location of the subject firm working out of Pembroke Pines, Florida.

The intent of the Department's certification is to include all workers employed by Norwalk Furniture Corp., Norwalk, Ohio, who were adversely affected by increased imports of upholstered furniture.

The amended notice applicable to TA-W-63,794 is hereby issued as follows:

All workers of Norwalk Furniture Corp., including on-site leased workers from Kelly Services, Norwalk, Ohio (TA-W-63,794), including an employee of Norwalk Furniture Corp., Norwalk, Ohio, working out of Pembroke Pines, Florida (TA-W-63,794A), who became totally or partially separated from employment on or after July 23, 2007, through September 24, 2010, are eligible to apply for adjustment assistance under Section 223 of the Trade Act of 1974, and are also eligible to apply for alternative trade adjustment assistance under Section 246 of the Trade Act of 1974.

Signed at Washington, DC this 12th day of January 2009.
Linda G. Poole,
Certifying Officer, Division of Trade Adjustment Assistance.

[FR Doc. E9-1488 Filed 1-23-09; 8:45 am]

BILLING CODE 4510-FN-P